DEPARTMENT OF THE INTERIOR

Bureau of Land Management

[19X LLUT912000 L13140000.PP0000]

Notice of Public Meetings, Utah Resource Advisory Council, Utah

AGENCY: Bureau of Land Management, Interior.

ACTION: Notice of Public Meetings.

SUMMARY: In accordance with the Federal Land Policy and Management Act, the Federal Advisory Committee Act, and the Federal Lands Recreation Enhancement Act, the U.S. Department of the Interior, the Bureau of Land Management's (BLM) Utah Resource Advisory Council (RAC) will meet as indicated below.

DATES: The Utah RAC is scheduled to meet on October 29-30, 2019. The meeting will take place from 1 p.m. to 5 p.m. on October 29th and 8 a.m. to 5 p.m. on October 30th.

ADDRESSES: The meeting will be held at the John Wesley Powell River History Museum, 765 E Main Street, Green River, Utah 84525.

FOR FURTHER INFORMATION CONTACT: Lola Bird, Public Affairs Specialist, BLM Utah State Office, 440 West 200 South, Suite 500, Salt Lake City, Utah 84101; phone (801) 539-4033; or email lbird@blm.gov. Persons who use a telecommunications device for the deaf (TDD) may call the Federal Relay Service (FRS) at 1-800-877-8339 to leave a message or question for the above individual. The FRS is available 24 hours a day, seven days a week. Replies are provided during normal business hours.

SUPPLEMENTARY INFORMATION: The Utah RAC advises the Secretary of the Interior, through the BLM, on a variety of public lands issues. Agenda topics will include BLM updates; BLM Utah FY 2019 accomplishments; statewide planning updates; Grand Staircase-Escalante National Monument and Kanab Field Office administrative changes; John D. Dingell, Jr. Conservation, Management, and Recreation Act implementation; recreation fee proposals, and other issues as appropriate. Final agenda will be posted online at https://www.blm.gov/get-involved/resource-advisory-council/near-you/utah/RAC.

The meetings are open to the public; however, transportation, lodging, and meals are the responsibility of the participating individuals. The meeting will offer a 30-minute public comment period. Depending on the number of people wishing to comment and the time available, the time for individual comments may be limited. Written comments may also be sent to the BLM Utah State Office at the address listed in the ADDRESSES section of this notice. All comments received will be provided to the Utah RAC.

Before including your address, phone number, email address, or other personal identifying information in your comments, please be aware that your entire comment, including your personal identifying information, may be made publicly available at any time. While you can ask us in your comment to withhold your personal identifying information from public review, we cannot guarantee that we will be able to do so. Detailed meeting minutes for the Utah RAC meetings will be maintained in the BLM Utah State Office and will be available for public inspection and reproduction during regular business hours within thirty (30) days following the meeting.

Authority: 43 CFR 1784.4-2.

Edwin L. Roberson,
State Director.

[FR Doc. 2019-18785 Filed 8-29-19; 8:45 am]

BILLING CODE 4310-DQ-P